DEPARTMENT OF TRANSPORTATION

Research and Special Programs Administration

Office of Hazardous Material Safety; Notice of Applications for Modification of Exemption

AGENCY: Research and Special Programs Administration, DOT.

ACTION: List of Applications for Modification of Exemption.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g., to provide for additional hazardous materials, packaging design changes, additional mode of transportations, etc.) are described in footnotes to the application number. Application numbers with the suffix “M” denote a modification request. These applications have been separated from the new applications for exemptions to facilitate processing.

DATES: Comments must be received on or before June 11, 2003

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http;//dms.dot.gov.

This notice of receipt of applications for modification of exemption is published in accordance with part 107 of the Federal hazardous materials transportation law (49 U.S.C. 5117(b); 49 CFR 1.53(b)).

Issued in Washington, DC, on May 19, 2003.
R. Ryan Posten,
Exemptions Program Officer, Office of Hazardous Materials, Exemptions and Approvals.

Application No. | Docket No. | Applicant | Modification of exemption
3216-M |  | Dupont SHE Excellence Center, Wilmington, DE (See Footnote (1)) | 3216
8995-M |  | BASF Corporation, Mount Olive, NJ (See Footnote (2)) | 8995
10878-M |  | Tankcon FRP Inc., Boisbriand, Qc (See Footnote (3)) | 10878
12443-M | RSPA-00-7209 | Kinder Morgan Materials Services, Sewickley, PA (See Footnote (4)) | 12443
13116-M | RSPA-02-13306 | Chromatography Research Supplies, Inc., Louisville, KY (See Footnote (5)) | 13116
13217-M | RSPA-03-14918 | Belshire Environmental Services, Inc. Lake Forest, CA (See Footnote (6)) | 13217
(1) To modify the exemption to authorize the transportation of a Class 8 material in non-DOT specification multi-unit tank car tanks.
(2) To modify the exemption to authorize the transportation of a Class 3 material in a non-DOT specification portable tank.
(3) To modify the exemption to authorize the manufacture of non-DOT specification fiberglass reinforced plastic (FRP) cargo tanks with larger capacities.
(4) To modify the exemption to authorize hoses, containing a certain Class 3 material, to remain connected to a DOT Specification tank car during off hours using alternative monitoring procedures.
(5) To modify the exemption to clarify shipping requirements for the transportation of small quantities of self-heating solids in gas purifier system filters.
(6) To reissue the exemption originally issued on an emergency basis for the transportation of Class 3 materials in non-DOT specification packages.

[FR Doc. 03-13062 Filed 5-23-03; 8:45 am]

BILLING CODE 4910-60-M